DEPARTMENT OF DEFENSE

Office of the Secretary

[Docket ID DoD-2020-OS-0024]

Privacy Act of 1974; System of Records

AGENCY: National Geospatial-Intelligence Agency (NGA), Department of Defense (DoD).

ACTION: Rescindment of a System of Records Notice (SORN).

SUMMARY: The NGA is rescinding a System of Records, Contracting Officer Designation Files, B1202-17. This System of Records maintained documents showing the designation of contracting officers to include restrictions and limitations on authority, and associated peripheral data required for Agency contacts. All Contracting Officer Designation Files have been transitioned to the Enterprise Workforce System (EWS), which are covered by SORN NGA-003.

DATES: This System of Records rescindment is effective upon publication. The specific date for when this system ceased to be a Privacy Act System of Records was August 31, 2017 and the records transitioned to EWS.

FOR FURTHER INFORMATION CONTACT: To submit general questions about the rescinded system, please contact Mr. Charles R. Melton, Chief FOIA, National Geospatial-Intelligence Agency, Security and Installation, Attn: FOIA Office, 7500 GEOINT Drive, Springfield, VA 22150-7500, or by phone at (571) 558-3715.

SUPPLEMENTARY INFORMATION: On November 19, 2013, the Office of the Secretary of Defense (OSD) published a new System of Records, National Geospatial-Intelligence Agency Enterprise Workforce System (EWS) (November 19, 2013, 78 FR 69393). Since that time, the NGA Contracting Officer Designation records have been subsumed by the EWS System of Records and all records previously covered by the NGA Contracting Officer Designation Files System of Records have transitioned to the EWS System of Records.

The OSD notices for Systems of Records subject to the Privacy Act of 1974 (5 U.S.C. 552a), as amended, have been published in the Federal Register and are available from the address in FOR FURTHER INFORMATION CONTACT or at the Defense Privacy, Civil Liberties and Transparency Division website at https://dpcld.defense.gov.

The proposed system reports, as required by the Privacy Act of 1974, as amended, were submitted on December 16, 2019, to the House Committee on Oversight and Reform, the Senate Committee on Homeland Security and Governmental Affairs, and to the Office of Management and Budget (OMB) pursuant to Section 6 of OMB Circular No. A-108, “Federal Agency Responsibilities for Review, Reporting, and Publication under the Privacy Act,” revised December 23, 2016 (December 23, 2016, 81 FR 94424).

SYSTEM NAME AND NUMBER:

Contracting Officer Designation Files, B1202-17.

HISTORY:

March 19, 2002, 67 FR 12532.

Dated: February 21, 2020.
Aaron T. Siegel,
Alternate OSD Federal Register Liaison Officer, Department of Defense.

[FR Doc. 2020-03931 Filed 2-26-20; 8:45 am]

BILLING CODE 5001-06-P